NATIONAL AERONAUTICS AND SPACE ADMINISTRATION

[Notice (00-067)]

NASA Advisory Council, Space Flight Advisory Committee (SFAC); Meeting.

AGENCY: National Aeronautics and Space Administration.

ACTION: Notice of meeting.

SUMMARY: In accordance with the Federal Advisory Committee Act, Public Law 92-463, as amended, the National Aeronautics and Space Administration announces a meeting of the NASA Advisory Council, Space Flight Advisory Committee.

DATES: Wednesday, June 28, 2000 from 8 a.m. until 11:30 a.m.; on Thursday, June 29, 2000 from 8 a.m. until 5 p.m.; and on Friday, June 30, 2000 from 8 a.m. until 2 p.m.

ADDRESSES: National Aeronautics and Space Administration, 300 E Street, SW, Room MIC 7, Washington, DC 20546.

FOR FURTHER INFORMATION CONTACT: Mrs. Stacey Edgington, Code ML, National Aeronautics and Space Administration, Washington, DC 20546, 202/358-4519.

SUPPLEMENTARY INFORMATION: The meeting will be open to the public up to seating capacity of the room. The agenda for the meeting is as follows:

—Shuttle upgrades review.

—Overview, status and metrics for Office of Space Flight programs.

It is imperative that the meeting be held on this date to accommodate the scheduling priorities of the key participants. Visitors will be requested to sign a visitor's register.

Dated: June 2, 2000.
Matthew Crouch,
Advisory Committee Management Officer, National Aeronautics and Space Administration.

[FR Doc. 00-14374 Filed 6-7-00; 8:45 am]

BILLING CODE 7510-01-U